POSTAL REGULATORY COMMISSION

[Docket No. PI2018-2; Order No. 4828]

Public Inquiry on Service Performance Measurement Systems

AGENCY: Postal Regulatory Commission.

ACTION: Notice.

SUMMARY: The Commission is noticing a recently filed Postal Service request proposing modifications to its market dominant service performance measurement systems. This document informs the public of this proceeding and the technical conference, invites public comment, and takes other administrative steps.

DATES: Comments are due: October 12, 2018.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: On September 20, 2018, the Postal Service filed a notice, pursuant to 39 CFR 3055.5, proposing modifications to its market dominant service performance measurement systems.¹ The systems that are the subject of this proceeding were recently approved for implementation on July 5, 2018, in Docket No. PI2015-1.² Accompanying the Notice is a library reference, which contains a copy of the United States Postal Service, Service Performance Measurement plan, revised September 20, 2018 (both redline and clean versions), a chart outlining the proposed modifications, and other associated materials.³

¹ United States Postal Service Notice of Service Performance Measurement System Modification, September 20, 2018 (Notice).

² Docket No. PI2015-1, Order Approving Use of Internal Measurement Systems, July 5, 2018; Docket No. PI2015-1, Docket No. PI2015-1, Errata to Order No. 4697, August 21, 2018.

³ Library Reference USPS-LR-PI2018-2/1, September 20, 2018.

The Postal Service's proposed modifications focus on accurately describing procedures in regard to “Non-Airlift Days.” These are typically days before a non-Monday holiday where air transportation is limited on the day of mail induction (the day before the holiday) or the following day (the day of the holiday). Notice at 1. The Postal Service proposes to modify its service performance measurement plan for mailpieces that are dropped at a collection box, business mail chute, or Post Office location on a Non-Airlift Day to start-the-clock on measurement on the date of the following applicable acceptance day. Id. at 2.

Other proposed modifications focus on correcting areas of the service performance measurement plan to reflect current operations. These include removing references to certain parcels products that were recently moved from the market dominant to the competitive category, a product name change, and other applicable updates.

Interested persons are invited to comment on any or all aspects of the Postal Service's proposed modifications concerning the service performance measurement systems. Comments are due October 12, 2018. The Commission does not anticipate the need for reply comments at this time. The Commission intends to evaluate the comments received and use those suggestions to help carry out its service performance measurement responsibilities under the Postal Accountability and Enhancement Act. Material filed in this docket will be available for review on the Commission's website, http://www.prc.gov.

It is ordered:

1. Docket No. PI2018-2 is established for the purpose of considering the Postal Service's proposed modifications to its market dominant service performance measurement systems.

2. Interested persons may submit written comments on any or all aspects of the Postal Service's proposals no later than October 12, 2018.

3. Lyudmila Y. Bzhilyanskaya is designated to represent the interests of the general public in this docket.

4. The Secretary shall arrange for publication of this Notice in the Federal Register.

By the Commission.
Stacy L. Ruble,
Secretary.

[FR Doc. 2018-21136 Filed 9-27-18; 8:45 am]

BILLING CODE 7710-FW-P